DEPARTMENT OF AGRICULTURE

Submission for OMB Review; Comment Request

February 19, 2004.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395—5806 and to Departmental Clearance Office, USDA, OCIO, Mail Stop 7602, Washington, DC 20250-7602. Comments regarding these information collections are best assured of having their full effect if received within 30 days of this notification. Copies of the submission(s) may be obtained by calling (202) 7208681.

An agency may not conduct or sponsor a collection of information unless the collection of information displays a currently valid OMB control number and the agency informs potential persons who are to respond to the collection of information that such persons are not required to respond to the collection of information unless it displays a currently valid OMB control number.

Foreign Agricultural Service

Title: “Certificate for Quota Eligibility” (CQE) to Enter Sugar into the United States.

OMB Control Number: 0551-0014.

Summary of Collection: 5(a)(i) of the Harmonized Tariff Schedule of the United States authorizes the Secretary to establish a raw-can sugar tariff-rate quota (TRQ). 5(b)(i) authorizes the U.S. Trade Representative to allocate the raw-cane sugar tariff-rate quota among supplying countries. Certificates of Quota Eligibility (CQE) are issued to the 40 countries that receive TRQ allocations to export sugar to the United States. The CQE is completed by the certifying authority in the foreign country that certifies that the sugar being exported to the United States was produced in the foreign country that has the TRQ allocation. The Foreign Agriculture (FAS) will collection information using form FSA-961.

Need and Use of the Information: FAS will collect the following information: (1) Country of origin or area of the eligible raw can sugar; (2) quota period; (3) quality of raw can sugar to be exported; (4) details of the shipment (shipper, vessel, port of loading); and (5) additional details if available at the time of shipment (consignee, address of consignee, expected date of departure, expected date of arrival in the U.S., expected port of arrival). The information will help determine if the quantity to be imported is eligible to be entered under the TRQ.

Description of Respondents: Business or other for-profit; Individuals or households.

Number of Respondents: 40.

Frequency of Responses: Reporting: On occasion.

Total Burden Hours: 200.

Farm Service Agency

Title: Certified Mediation Program.

OMB Control Number: 0560-0165.

Summary of Collection: The Farm Service Agency (FSA) has amended its agricultural loan mediation regulations to implement the requirements of the Federal Crop Insurance Reform and Department of Agriculture Reorganization Act of 1994 (the 1994 Act) and the United States Grain Standards Act of 2000 ( the Grain Standards Act). The regulations provide a mechanism to states to apply for and obtain matching funds grants from USDA. The grant funds help states supplement administrative operating funds needed to administer their agricultural mediation programs. FSA will collection information by mail, phone, fax, and in person.

Need and Use of the Information: FSA will collect information to determine whether the State meets the eligibility criteria to be recipients of grant funds, and secondly, to determine if the grant is being administered as provided by the Act.

Description of Respondents: State, Local or Tribal Government.

Number of Respondents: 29.

Frequency of Responses: Recordkeeping; Reporting: Annually.

Total Burden Hours: 928.

Farm Service Agency

Title: Facsimile Signature Authorization and Verification.

OMB Control Number: 0560-0203.

Summary of Collection: Individuals wishing to conduct business and provide certain signed documents to the U.S. Department of Agriculture (USDA) Service Center agencies via facsimile machines must complete form FSA-237, Facsimile Signature Authorization and Verification. The form serves as evidence that the individual is willing to conduct business and provide signed documents through facsimile machines. Each of the USDA service center agencies (Farm Service Agency, Natural Resources Conservation Service, and Rural Development Agencies) will share the signature on the FSA-237 forms to eliminate redundant collection of the same data.

Need and Use of the Information: FSA will collect the name, signature and identification number from service center customers. The information collected will be used to verify the authenticity of signatures on documents provided to USDA service centers via telefacsimile. Failure to collect and maintain the original signature will limit USDA's ability to offer the telefacsimile alternative to its service center customers.

Description of Respondents: Farms; Individuals or households.

Number of Respondents: 51,965.

Frequency of Responses: Reporting: Other (once).

Total Burden Hours: 1,039.

Farm Service Agency

Title: Rate Quotation for Transportation Services.

OMB Control Number: 0560-NEW.

Summary of Collection: The Commodity Credit Corporation (CCC) through the Kansas City Commodity Office (KCCO), solicits bids from approved Motor Carriers and Intermodal Marketing Companies for the purpose of providing transportation of agricultural commodities. 49 U.S.C. 13712 authorizes USDA to receive freight rate quotes from approved Motor Carriers and Intermodal Marketing Companies that are compliant with USDA requirements to haul agricultural products for USDA. The Farm Service Agency (FSA) will collect information using form KC-5, Rate Quotation for Transportation Services.

Need and Use of the Information: The information collected will be used by KCCO to: (1) Establish the lowest cost of movement via Motor Carriers or Intermodal Marketing Companies, (2) determine whether the transportation needs of USDA, FSA, and KCCO are being met, and (3) ensure that Motor Carriers and Intermodal Marketing Companies, providing transportation services have both the willingness and the capability to meet these needs.

Description of Respondents: Business or other-for-profit; Not-for-profit institutions; State, Local and Tribal Government; Federal Government.

Number of Respondents: 132.

Frequency of Responses: Reporting: On occasion; Other (as needed).

Total Burden Hours: 1,353.

Animal and Plant Health Inspection Service

Title: National Agricultural Pest Information System.

OMB Control Number: 0579-0010.

Summary of Collection: The United States Department of Agriculture is responsible for preventing plant diseases or insect pests from entering the United States, preventing the spread of pests not widely distributed in the United States, and eradicating those imported pests when eradication is feasible. The Plant Quarantine Act and the Federal Plant Pest Act authorizes the Department to carry out this mission. The Animal and Plant Health Inspection Service (APHIS) has joined forces with the States to create a program called the Cooperative Agricultural Pest Survey. The program allows the States and the Plant Protection and Quarantine (PPQ) to conduct surveys to detect and measure the presence of imported plant pests and to input survey data into a national computer-based system (called the National Agricultural Plant Information System). APHIS will collect information using PPQ Form 391 and the information from the survey.

Need and Use of the Information: APHIS will collect information to predict potential pest situations and to promptly detect and respond to the occurrence of new pests and to record the location of those pest incursions that could directly hinder the export of U.S. farm commodities. If the information were not collected, it would seriously affect APHIS ability to timely assist farmers, State personnel, and others involved in agriculture to plan pest control measures, detect new outbreaks, and to determine the threat posed by migratory pests.

Description of Respondents: State, Local or Tribal Government.

Number of Respondents: 155.

Frequency of Responses: Reporting; On occasion.

Total Burden Hours: 3,969.

Animal and Plant Health Inspection Service

Title: Importation of Fruits and Vegetables.

OMB Control Number: 0579-0158.

Summary of Collection: Under the Plant Protection Act (7 U.S.C. 7701-7772), the Secretary of Agriculture is authorized to regulate the importation of plants, plant products, and other articles to prevent the introduction of injurious plant pests. Regulations contained in Title 7 of the Code of Federal Regulations, part 319 (subpart—Fruits and Vegetables), sections 319.56 through 319.56-8 implement the intent of this Act by prohibiting or restricting the importation of certain fruits and vegetables into the United States from certain parts of the world to prevent the introduction and dissemination of fruit flies and other injurious plant pests that are new to or not widely distributed within the United States. Allowing these fruits and vegetables to be imported necessitates the use of certain information collection activities, including the completion of import permits, phytosanitary inspection certificates, and fruit fly monitoring records.

Need and Use of the Information: The Animal and Plant Health Inspection Service (APHIS) will collect the name and address of the importer, the type of fruit or vegetables being imported, from which country these products are being imported, and other information regarding the shipment that will enable APHIS to determine whether the fruit or vegetables are eligible for import and if so, what (if any) risk mitigation measures will be necessary to ensure these items pose minimal risk of introducing plant pests into the United States. Without the information, APHIS would need to inspect each and every shipment very thoroughly to ensure that no pests were accompanying the shipment. This would require considerable more inspection time, thus drastically slowing the clearance of international shipments.

Description of Respondents: Farm; Business or other for-profit.

Number of Respondents: 150.

Frequency of Responses: Recordkeeping; Reporting: On occasion.

Total Burden Hours: 3,200.

Animal Plant and Health Inspection Service

Title: Commercial Transportation of Equines to Slaughter.

OMB Control Number: 0579-0160.

Summary of Collection: Sections 901-905 of the Federal Agriculture Improvement and Reform Act of 1996 authorize the Secretary of Agriculture to issue guidelines for regulating the commercial transportation of horses to slaughter by persons regularly engaged in that activity within the United States. To fulfill this responsibility, the Animal and Plant Health Inspection Service (APHIS) established regulations in title 9, part 98 of the Code of Federal Regulations. The minimum standards cover, among other things, the food, water, and rest provided to these horses while they are in transit; and to review other related issues that may be appropriate to ensuring that these animals are treated humanely. Implementing these regulations entails the use of two information collection activities in the form of an owner-shipper certificate, as well as the collection of employment information on any person found to be transporting horses to a slaughtering facility.

Need and Use of the Information: APHIS will collect the following information: (1) Shipper's name and address and the owner's name and address; (2) description of the transporting vehicle, including the license plate number; (3) a description of the horse's physical characteristics, including its sex, coloring, distinguishing marks, permanent brands, electronic means of identification, or other characteristics that can be used to accurately identify the horse; (4) the number of the USDA back tag that has been applied to the horse for identification purposes; (5) a statement of the animal's fitness to travel, which must indicate that the horse is able to bear weight on all four limbs, is able to walk unassisted, is not blind in both eyes, is older than 6 months of age, and is not likely to give birth during the trip; (6) a description of anything unusual with regard to the physical condition of the horse, such as a wound or blindness in one eye, and any special handling needs; (7) the date, time, and place the horse was loaded on the conveyance; and (8) a statement that the horse was provided access to food, water, and rest prior to transport.

Description of Respondents: Business or other for-profit; Individuals or households; Farms.

Number of Respondents: 200.

Frequency of Responses: Recordkeeping; Reporting: On occasion.

Total Burden Hours: 4,203.

Animal and Plant Health Inspection Service

Title: District of Columbia Plant Health Certificate.

OMB Control Number: 0579-0166.

Summary of Collection: The United States Department of Agriculture is responsible for preventing plant pests and noxious weeds for entering the United States, preventing the spread of pests and weeds not widely distributed in the United States and eradicating those imported pests and weeds when eradication is feasible. The Federal Plant Protection Act (7 U.S.C. 7701-7772) authorized the Department to carry out this mission. The Plant Protection and Quarantine (PPQ) of the Animal and Plant Health Inspection Service (APHIS) provides certification services for plant material moving interstate to ensure other states that the plants and plant products they are receiving from the District of Columbia are free of prohibited or otherwise regulated plant pests. APHIS will collect information using form PPQ 571 District of Columbia Plant Health Certificate.

Need and Use of the Information: APHIS will collect information using forms PPQ 571, to certify that the domestic plant or other plant material described by the shipper has been inspected according to appropriate procedures and that it is considered free from certain plant diseases, insects, or other pests, and is considered to conform with the requirements of the importing State. If the information is not collected, it would likely result in the interstate spread of damaging agricultural pests. Further entities in the District of Columbia would be unable to ship their products to other States, as other States require this certification.

Description of Respondents: Business or other for-profit; Not-for-profit institutions.

Number of Respondents: 4.

Frequency of Responses: Reporting: On occasion.

Total Burden Hours: 40.

Animal Plant and Health Inspection Service

Title: Veterinary Services User Fees; Fees for Permit Applications.

OMB Control Number: 0579-0167.

Summary of Collection: The Food, Agricultural, Conservation and Trade Act of 1990, as amended, authorizes the Secretary of Agriculture to prescribe and collect fees to reimburse Agencies for the cost of carrying out the provisions of the Federal Animal Quarantine Laws that relate to the importation, entry, and exportation of animals, articles, or means of conveyance. The Veterinary Services Division of USDA's Animal and Plant Health Inspection Service (APHIS) is the unit responsible for processing import permit applications and for charging a user fee to provide this service. VS 16-3, Application for Permit to Import Controlled Material; Import or Transport Organisms or Vectors will be used to collect information.

Need and Use of the Information: The information collected from the import permit application process enables USDA to carefully evaluate the risks associated with commodities prior to their entry into the United States and to determine the appropriate user fee to charge. Failure to collect user fees could create a significant funding shortage that might cripple APHIS ability to process import permit applications in a timely manner.

Description of Respondents: Federal Government; Business or other for-profit; Individuals or households.

Number of Respondents: 2,350.

Frequency of Responses: Reporting; On occasion.

Total Burden Hours: 47.

Animal and Plant Health Inspection Service

Title: Citrus Canker; Payment for Recovery of Lost Production Income.

OMB Control Number: 0579-0168.

Summary of Collection: Under the Plant Protection Act (7 U.S.C. 7701-7772), the Secretary of Agriculture, either independently or in cooperation with the States, is authorized to carry out operations or measures to detect, eradicate, suppress, control, prevent, or retard the spread of plant pests (such as citrus canker) new to or widely distributed throughout the United States. The Animal and Plant Health Inspection Services (APHIS), Plant Protection and Quarantine, has regulations in place to prevent the interstate spread of citrus canker. These regulations restrict the interstate movement of regulated articles from and through areas quarantined because of citrus canker. APHIS established a program under which eligible owners of commercial citrus groves in Florida could receive payments to recover production income lost as a result of the removal of their commercial citrus trees to control citrus canker. The payment of these funds is intended to reduce the economic effect of citrus canker quarantine on affected commercial citrus growers in Florida. Implementing this payment program necessitates the use of information collection activities in the form of an Application for Funds.

Need and Use of the Information: APHIS will collect from the application the owner's name and address, a description of the owner's property, and a certification statement that the trees removed from the owner's property were commercial citrus trees. Along with the application form, the owner must also send a copy of the public order or destruction order that describes the acreage the number and the types of trees removed. The information collected will be used to: (1) Obtain the correct address to which funds are to be sent, and (2) verify the location and acreage for which the owner is requesting recovery funds. Without the information APHIS would be unable to reimburse eligible grove owners for the loss of production income.

Description of Respondents: Farm; Business or other for-profit; Individuals or households.

Number of Respondents: 20.

Frequency of Responses: Reporting: On occasion.

Total Burden Hours: 3.

Animal and Plant Health Inspection Service

Title: CSF—Importation of Pork and Pork Products and Live Swine from 4 Mexican States.

OMB Control Number: 0579-0230.

Summary of Collection: Disease prevention is the most effective method for maintaining a healthy animal population and enhancing the Animal and Plant Health Inspection Service (APHIS) ability to compete in the world market of animal and animal product trade. Veterinary Services, a division with APHIS is responsible for carrying out this disease prevention mission. The agency regulates the importation of animals and animal products into the United States to guard against the introduction of exotic animal diseases such as classical swine fever. The regulations under which APHIS conducts these disease prevention activities are contained in Title 9, Chapter 1, Subchapter D, Parts 91 through 99 of the Code of Federal Regulations. These regulations place certain restrictions on the importation of swine, pork, and pork products in order to prevent an incursion of classical swine fever or other exotic swine diseases into the United States.

Need and Use of the Information: APHIS will collect information using a certificate issued by a salaried veterinary officer of the Government of Mexico. The certificate must identify both the exporting region and the region of origin as a region designated as free of classical swine fever at the time the swine, pork and pork products were in the region. If the information were not collected it would significantly cripple APHIS' ability to ensure that swine, pork, and pork products from certain States within Mexico pose a minimal risk of introducing classical swine fever and other exotic animal diseases into the United States.

Description of Respondents: Farms; Individuals or households.

Number of Respondents: 5.

Frequency of Responses: Reporting: On occasion.

Total Burden Hours: 50.

Forest Service

Title: Operating Plans.

OMB Control Number: 0596-0086.

Summary of Collection: The National Forest Management Act, 16 U.S.C. 472a(14)(C) (Act) requires timber sale operating plans on timber sales that exceed 2 years in length. The regulations at 36 CFR 223.32 have a similar requirement. The operating plans are collected within 60 days of award of timber sale contracts and annually thereafter until harvest is complete. There is no prescribed format for the collection of the information. Timber sale purchasers may submit the required information in the form of a chart or letter using surface mail, electronic mail, or via facsimile. The information is based on the timber sale purchaser's business plan.

Need and Use of the Information: Forest Service (FS) will collect information to determine eligibility for additional contract time. In addition, the information is used to plan the agency timber sale contract administration workload and to meet other contract obligations. The information collected includes planned periods and methods of anticipated major activities, including, road construction, timber harvesting, and completion of other contract requirements.

Description of Respondents: Business or other for-profit; Individuals or households.

Number of Respondents: 2,500.

Frequency of Responses: Reporting: Annually.

Total Burden Hours: 1,875.

Rural Utilities Service

Title: RUS Form 444, “Wholesale Power Contracts”.

OMB Control Number: 0572-0089.

Summary of Collection: The Rural Electrification Act of 1936 (RE Act) as amended (7 U.S.C. 901 et seq.), authorizes the Rural Utilities Service (RUS) to make and guarantee loads that will enable rural consumers to obtain electric power. Rural consumers formed non-profit electric distribution cooperatives, groups of these distribution cooperatives banded together to form Generation and Transmission cooperatives (G&T's) that generate or purchase power and transmit the power to the distribution systems. All RUS and G&T borrowers will enter into a Wholesale Power Contract with their distribution members by using RUS form 444.

Need and Use of the Information: To fulfill the purposes of the RE Act RUS will collect information to improve the credit quality and credit worthiness of loans and loan guarantees to G&T borrowers. RUS works closely with lending institutions that provide supplemental loan funds to borrowers.

Description of Respondents: Not-for profit institutions; Business or other for-profit.

Number of Respondents: 110.

Frequency of Responses: Reporting: Quarterly.

Total Burden Hours: 660.

Rural Utilities Service

Title: 7 CFR 1775, Technical Assistance Program.

OMB Control Number: 0572-0112.

Summary of Collection: Section 306 of the Consolidated Farm and Rural Development Act (CONACT), 7 U.S.C. 1926, authorizes Rural Utilities Service (RUS) to make loans and grants to public agencies, American Indian tribes, and nonprofit corporations. The loans and grants fund the development of drinking water, wastewater, and solid waste disposal facilities in rural areas with populations of up to 10,000 residents. Non-profit organizations receive Technical Assistance and Training (TAT) and Solid Waste Management (SWM) grants to help small rural communities or areas identify and solve problems relating to community drinking water, wastewater, or solid waste disposal systems. The technical assistance is intended to improve the management and operation of the systems and reduce or eliminate pollution of water resources. TAT and SWM are competitive grant programs administered by RUS.

Need and Use of the Information: Non-profit organizations applying for TAT and SWM grants must submit a pre-application, which includes an application form, narrative proposal, various other forms, certifications and supplemental information. RUS will collect information to determine applicant eligibility, project feasibility, and the applicant's ability to meet the grant and regulatory requirements. RUS will review the information, evaluate it, and, if the applicant and project are eligible for further competition, invite the applicant to submit a formal application. Failure to collect proper information could result in improper determinations of eligibility, improper use of funds, or hindrances in making grants authorized by the TAT and SWM program.

Description of Respondents: Not-for-profit institutions.

Number of Respondents: 95.

Frequency of Responses: Reporting: On occasion; Quarterly.

Total Burden Hours: 5,555.

National Agricultural Statistics Service

Title: Supplemental Qualifications Statement.

OMB Control Number: 0535-0209.

Summary of Collection: The Department of Agriculture has an Interagency Agreement with the Office of Personnel, which provides the National Agricultural Statistics Service (NASS) with the authority to examine, rate, and certify applications for agricultural statistician positions. In addition to resumes, curriculum vitae, and the standard Optional Application for Federal Employment, NASS has created a Supplemental Qualifications Statement (SQS) for agricultural statistician and mathematical statistician positions. The SQS allows applicants the opportunity to describe their achievements or accomplishments as they relate to the required knowledge, skills, and abilities.

Need and Use of the Information: THe SQS provides applicants with information related to how they will be measured for a position and what kinds of information will be used to evaluate those abilities. NASS personnel specialist will use the information on the SQS to evaluate and rate the applicant's accomplishments or achievements. Ultimately, the information is used by the selecting official as one of the criteria in the selection process.

Description of Respondents: Individuals or households.

Number of Respondents: 50.

Frequency of Responses: Reporting: On occasion.

Total Burden Hours: 150.

National Agriculture Statistics Service

Title: Agricultural Surveys Program.

OMB Control Number: 0535-0213.

Summary of Collection: National Agriculture Statistics Service (NASS) primary functions are to prepare and issue state and national estimates of crop and livestock production and collect information on related environmental and economic factors. The Agricultural Surveys Program is a series of surveys that contains basic agricultural data from farmers and ranchers throughout the Nation the preparing agricultural estimates and forecasts. The surveys results provide the foundation for setting livestock and poultry inventory numbers. Estimates derived from the surveys supply information needed by farmers to make decisions for both short and long-term planning. The General authority for these data collection is granted under U.S. Code Title 7, Section 2206.

Need and Use of the Information: The surveys provide the basis for estimates of the current season's crop and livestock production and supplies of grain in storage. Crop and livestock statistics help develop a stable economic atmosphere and reduce risk for production, marketing, and distribution operations. These commodities affect the well being of the nation's farmers, commodities markets, and national and global agricultural policy.

Users of agricultural statistics are farm organizations, agribusiness, state and national farm policy makers, and foreign buyers of agricultural products but the primary user of the statistical information is the producer. Agricultural statistics are also used to plan and administer other related federal and state programs in such areas as school lunch program, conservation, foreign trade, education, and recreation. Collecting the information less frequent would eliminate needed data to keep the government and agricultural industry abreast of changes at the state and national levels.

Description of Respondents: Farms.

Number of Respondents: 578,650.

Frequency of Responses: Reporting: Quarterly; Semi-annually; Monthly; Annually.

Total Burden Hours: 134,129.

National Agricultural Statistics Service

Title: Nursery Production survey and Nursery and Floriculture Chemical Use Survey.

OMB Control Number: 0535-0244.

Summary of Collection: The National Agricultural Statistics Service (NASS) is charged with the responsibility of providing reliable, up-to-date information concerning the Nation's farms and ranches to farm groups, the public, Congress, the Executive Branch and the Secretary of Agriculture. Congress appropriated funds for the collection of pesticide use data on nursery and floriculture operations. This data will expand the existing NASS pesticide database that contains comprehensive annual pesticide use reports. The authority for these data collection activities is granted under U.S. Code Title 7, Section 2204.

Need and Use of the Information: NASS will collect information to assess the environmental and economic impact of various programs, policies and procedures on nursery and floriculture operators and their workers. This data will enhance the national chemical use database maintained by NASS which is an integral source of data necessary for on-going risk assessments related to dietary exposure to chemicals, worker safety, water quality and ecological resources.

Description of Respondents: Farms; Business or other for-profit.

Number of Respondents: 12,145.

Frequency of Responses: Reporting: Biennially.

Total Burden Hours: 7,052,

Farm Service Agency

Title: Request for Electronic Loan Deficiency Payment Services.

OMB Control Number: 0560-0220.

Summary of Collection: The USDA County Base Agency's (CBA) have developed a management and technical process that addresses user authentication and authorization prerequisites for providing services electronically. The process provides an electronic alternative to traditional ink signatures. The process is based on a one-time registration requirement for each CBA customer desiring access to any on-line services that require user authentication. The information collected on form AD-2016, USDA Registration Form to Request Electronic Access Code, is necessary to enable the authentication of users and grant them access to only those resources for which they are authorized.

Need and Use of the Information: The voluntary registration process applies to CBA customers and partners (non-CBA employees) who request Farm Service Agency, Rural Development, and Natural Resources Conservation Service provided services. Registration can be requested by the customer in person, by mail, or by fax. The information collected on form AD-2016 will be used to verify and validate the identity of registrants and to enable the electronic authentication of users. The user will then have access to these authorized resources without needing to reauthenticate within the context of a single Internet session.

Description of Respondents: Farms; Individuals or Households; Business or other for-profit.

Number of Respondents: 5,000.

Frequency of Responses: Reporting: Annually.

Total Burden Hours: 1,600.

Rural Business-Cooperative Service

Title: Research on Rural Cooperative Opportunities and Problems.

OMB Control Number: 0570-0028.

Summary of Collection: Public Law 103-350, the Department of Agriculture Reorganization Act of 1994, established The Rural Business-Cooperative Service (RBS). The mission of RBS is to improve the quality of life in rural America by financing community facilities and businesses, providing technical assistance and creating effective strategies for rural development. The primary objective of this funding is to encourage research through cooperative agreements on critical issues vital to the development and sustainability of cooperatives as a means of improving the quality of life in America's rural communities. RBS will collect information through research proposals prepared by applicants, who may be public or private colleges or universities, research foundations maintained, by a college or university, or private nonprofit organizations.

Need and Use of the Information: RBS will collect information from applicants to determine (1) Eligibility; (2) the specific purpose for which the funds will be utilized; (3) time frames or dates by which activities surrounding the use of funds will be accomplished; (4) feasibility of the project; (5) applicants' experience in managing similar activities; and (6) the effectiveness and innovation used to address critical issues vital to the development and sustainability of cooperatives as a means of improving the quality of life in America's rural communities. Without the collection of information, there would be no basis on which to award funds or monitor project progress.

Description of Respondents: Not-for-profit institutions.

Number of Respondents: 50.

Frequency of Responses: Recordkeeping; Reporting: On occasion; Quarterly.

Total Burden Hours: 1,339.

Rural Business-Cooperative Service

Title: National Sheep Industry Improvement Center.

OMB Control Number: 0570-0048.

Summary of Collection: The National Sheep Industry Improvement Center (NSIIC) is authorized by 7 U.S.C. 2008j to assist the U.S. sheep and goat industries by strengthening and enhancing the production and marketing of sheep, goats, and their products in the United States. The management of NSIIC is vested in a Board of Directors consisting of 7 voting members chosen from the sheep and goat industries.

Need and Use of the Information: The information collected is used to confirm that an applicant meet the eligibility requirements; the specific purpose for which the funds will be utilized; timeframes or dates by which activities surrounding the use of funds will be accomplished; feasibility of the project; applicants' experience in managing similar activities; and the effectiveness and innovation used to address critical issues vital to the development and sustainability of businesses, job creation, loans packaged, business information system network, and infrastructure development as a means of improving the American Sheep or Goat Industries. Without this information, there would be no basis on which to award funds.

Description of Respondents: Business or other for-profit; Not-for-profit institutions; Farms; Federal Government; State, Local or Tribal Government.

Number of Respondents: 45.

Frequency of Responses: Reporting: On occasion; Recordkeeping.

Total Burden Hours: 383.

Rural Utility Service

Title: Water and Waste Disposal Programs Guaranteed Loans.

OMB Control Number: 0572-0122.

Summary of Collection: Rural Utilities Service (RUS) is authorized by the Consolidated Farm and Rural Development Act to make loans to public agencies, nonprofit corporations, and Indian tribes for the development of water and waste disposal facilities primarily servicing rural residents. The Waste and Water Disposal Programs (WW) of RUS provide insured loan and grant funds through the WW program to finance many types of projects varying in size and complexity. The Waste and Water Disposal Guaranteed Program is codified under 7 CFR 1779. The guaranteed loan program encourages lender participation and provides specific guidance in the processing and servicing of guaranteed loans.

Need and Use of the Information: Rural Development's field offices will collect information from applicants/borrowers, lenders, and consultants to determine eligibility, project feasibility and to ensure borrowers operate on a sound basis and use loan funds for authorized purposes. There are agency forms required as well as other requirements that involve certifications from the borrower, lenders, and other parties. Failure to collect proper information could result in improper determinations of eligibility, use of funds and or unsound loans.

Description of Respondents: Business or other for-profit; Not-for-profit institutions; State, Local or Tribal Government.

Number of Respondents: 15.

Frequency of Responses: Reporting: On occasion.

Total Burden Hours: 858.

Agricultural Marketing Service

Title: Marketing Order Regulating the Handling of Spearmint Oil Produced in the Far West, M.O. 985.

OMB Control Number: 0581-0065.

Summary of Collection: The marketing order programs provide an opportunity for producers of fresh fruits, vegetables and specialty crops, in a specified production area to work together to solve marketing problems that cannot be solved individually. Far West spearmint marketing order regulates the handling of spearmint oil produced in the Washington, Idaho, Oregon, and designated parts of Nevada and Utah. The order authorizes the issuance of allotment provisions for producers and regulates the quantities of spearmint oil handled and has the authority for research and development. Under the Agriculture Marketing Agreement Act of 1937, as amended (7 U.S.C. 601-674), industries enter into marketing order programs. Agricultural Marketing Service (AMS) may act as the Secretary's agent to oversee the order operations and issue regulations recommended by a committee of representatives from each commodity industry.

Need and Use of the Information: The Committee has the authorization to require producers, handlers, and processors submit certain information as provided by the Order, rules and regulations. Various forms relating to spearmint supplies, shipments, and dispositions, are used and required to effectively carry out the purpose of the Act and order. The committee periodically reviews reports and forms to ensure that they are understandable, easy to fill out, and only the minimum of information necessary is reported. The information collected is used by authorized representatives of USDA, including AMS, Fruit and Vegetable Programs' regional and headquarters staff, and employees of the Committee. Timing and frequency of the various reports has evolved to meet the needs of the industry and minimize the burden on the reporting public. Collecting data less frequently would eliminate data needed to keep the spearmint oil industry and the Secretary abreast of changes at the state and local level.

Description of Respondents: Business or other for-profit; Farms, Federal government, State, Local or Tribal Government.

Number of Respondents: 194.

Frequency of Responses: Recordkeeping, Reporting: On occasion, Annual, Biennially.

Total Burden Hours: 230.

Agricultural Marketing Service

Title: Regulation governing inspection, certification, and standards for fresh fruits, vegetables and other products—7 CFR 51.

OMB Control Number: 0581-0125.

Summary of Collection: The Agricultural Marketing Act of 1946 gives authorization to USDA to inspect, certify and identify the class, quantity, quality and condition of agricultural produces when shipped or received in interstate commerce and to enter into cooperative agreements with cooperating Federal-State inspection Agencies that provide for this inspection work. The Fresh Products Branch provides a nationwide inspection and grading service for fresh fruits, vegetables, and other products to shippers, importers, processors, sellers, buyers and other financially interested parties on a “user-fee” basis. The program is voluntary and services are made available only upon request or when specified by some special program or contact.

Need and Use of the Information: Various forms are used to collect information. Such information includes: The name and location of the person or company requesting the inspection, the type and location of the product to be inspected, the type of inspection being requested and any information that will identify the product. The information collected is needed to carry out the inspection and grading services.

Description of Respondents: Business or other for-profit.

Number of Respondents: 56,980.

Frequency of Responses: Reporting: On occasion.

Total Burden Hours: 8,942.

Agricultural Marketing Service

Title: Seed Service Testing Program.

OMB Control Number: 0581-0140.

Summary of Collection: The Agricultural Marketing Act (AMA) of 1946, as amended by 7 U.S.C. 1621 authorizes the Secretary to inspect and certify the quality of agricultural products and collect such fees as reasonable to cover the cost of service rendered. The purpose of the voluntary program is to promote efficient, orderly marketing of seeds submitted to the Agricultural Marketing Service (AMS) are tested for factors such as purity and germination at the request of the applicant for the service. The Testing Section of the Seed Regulatory and Testing Branch of AMS, which tests the seed and issues the certificates is the only Federal seed testing facility which can issue the Federal Seed Analysis Certificate.

Need and Use of the Information: Applicants generally are seed firms who use the seed analysis certificates to represent the quality of seed lots to foreign customers according to the terms specified in contracts of trade. The only information collected is information needed to provide the service requested by the applicant. Applicants must provide information such as the kind and quantity of seed, tests to be performed, and seed treatment if present, along with a sample of seed in order for AMS to provide the service. Only authorized AMS employees used the information collected to track, test, and report test results to the applicant. If the information were not collected, AMS would not know which test to conduct or would not be able to relate the test results with a specific lot of seed. The information must be provided for each sample the applicant submits for test. Without the AMS program, applicants would have to obtain tests from state or commercial laboratories.

Description of Respondents: Business or other for-profit; Farms; State, Local or Tribal Government.

Number of Respondents: 82.

Frequency of Responses: Reporting: On occasion.

Total Burden Hours: 499.

Agricultural Marketing Service—Farm Service Agency

Title: National Organic Program.

OMB Control Number: 0581-0191.

Summary of Collection: The Organic Foods Production Act (OFPA) of 1990, Title XXI of the Food, Agriculture, Conservation and Trade Act of 1990 (Farm bill), USC Title 7, Section 6503(a) mandates that the Secretary of Agriculture develop a national organic program. The purposes of the regulation mandated by OFPA are: (1) To establish national standards governing the marketing of certain agricultural products as organically produced products; (2) to assure consumers that organically produced products meet a consistent standard; and (3) to facilitate interstate commerce in fresh and processed food that is organically produced. The National Organic Program (NOP) regulation fulfills the requirements of the OFPA. It includes comprehensive production and handling standards, labeling provisions, requirements for the certification of producers and handlers, accreditation of certifying agents by USDA and an administrative subpart for fees, State Programs, National List, appeals, compliance and pesticide residue testing. Agricultural Marketing Service will approve programs for State governments wishing to establish State Organic Programs.

Need and Use of the Information: The information collected is used to evaluate compliance with OFPA and NOP for administering the program, for management decisions and planning, for establishing the cost of the program and to support administrative and regulatory actions in response to non-compliance with OFPA. Certifying agents will have to submit an application to USDA to become accredited to certify organic production and handling operations. Auditors will review the application, perform site evaluation and submit reports to USDA, who will make a decision to grant or deny accreditation. Producers, handlers and certifying agents whose operations are not approved have the right to mediation and appeal the decision. Reporting and recordkeeping are essential to the integrity of the organic certification system.

Description of Respondents: Farms; Individuals or households; Business or other for-profit; State, Local or Tribal Government.

Number of Respondents: 19,766.

Frequency of Responses: Reporting: Annually; Recordkeeping.

Total Burden Hours: 593,523.

Farm Service Agency

Title: Eminent Domain Acquisitions: Reallocating Allotments and Quotas; Requesting Disaster Credit.

OMB Control Number: 0560-0033.

Summary of Collection: A Federal, State or other government agency has the power to take a farm by eminent domain acquisition and thus displace a landowner. A farm may be taken by eminent domain through court proceedings to condemn the land or through negotiation between the taking agency and the owner of the land. When an owner is displaced from a farm by eminent domain, in order to avoid forfeiture of the tobacco allotment or quota which is assigned to the farm, she/he may contact the Farm Service Agency (FSA) County Committee at the FSA County office, where the farm is located and arrange to place the tobacco in an ‘eminent domain’ pool. The allotment or quota thus placed in a pool is held for the displaced owner for subsequent transfer to other farms she/he may own or may purchase. An owner must request transfer of the tobacco from the pool within 3 years from the date of displacement from the farm to which the tobacco originally belonged. Further a farmer whose tobacco crop could not be planted, or which failed, because of a natural disaster such as adverse weather conditions, disease, virus, and insects, can request disaster credit to help protect the quota/allotment from forfeiture. FSA will collect information using forms FSA-177, Record of Pooled Farm Allotment or Quota, FSA-178, Application for Transfer of Allotment or Quota From Pool, and FSA-182, Request for Tobacco Disaster Credit.

Need and Use of the Information: FSA will collect information from the three forms to ensure the following: (1) The displaced owner request that tobacco be placed in an ‘eminent domain,’ (2) the displaced owner to request transfer of the pooled tobacco to another farm that she/he owns, and (3) to request disaster credit to help protect the quota/allotment from forfeiture.

Description of Respondents: Individuals or households; Farms; Federal Government; State, Local or Tribal Government.

Number of Respondents: 312.

Frequency of Responses: Reporting: Other (as needed).

Total Burden Hours: 482.

Animal Plant and Health Inspection Service

Title: Interstate Movement of Swine Within a Production System.

OMB Control Number: 0579-0161.

Summary of Collection: Disease prevention is the most effective method for maintaining a healthy animal population, and for enhancing the Animal Plant and Health Inspection Service (APHIS) ability to compete in the world market of animal and animal product trade. The Veterinary Services Division of APHIS is responsible for carrying out this disease prevention mission. The regulations under which APHIS conducts these disease prevention activities are contained in Title 9, Subchapter C of Chapter I, which governs the interstate movement of animals to prevent the dissemination of livestock and poultry diseases within the United States. Regulations in Part 71 contain requirements for moving swine interstate within a swine production system. (A production system consists of separate farms that each specialize in a different phase of swine production—sow herds, nursery herds, and finishing herds). Moving swine interstate within a swine production system involves the use of two information collection activities in the form of a Swine Production Health Plan and an Interstate Swine Movement Report.

Need and Use of the Information: The Swine Production Health Plan is a document developed by participating swine producers, stating that all farms within the given swine production system will maintain the health of their swine and remain vigilant for any signs of communicable disease. The Interstate Swine Movement Report is a document initiated by swine producers to notify their accredited veterinarians, APHIS, and State regulatory officials in the States of origin and destination that a group of animals is being moved across State lines in a swine production system. Without the information, the movement of swine interstate within a swine production system would become less efficient and more time-consuming, consequently placing more financial and logistical burden on producers who regularly engage in this activity.

Description of Respondents; Farms; Federal Government.

Number of Respondents: 1,000.

Frequency of Responses: Reporting: On occasion.

Total Burden Hours: 1,000.

Ruth Brown,
Departmental Information Collection Clearance Officer.

[FR Doc. 04-3954 Filed 2-23-04; 8:45 am]

BILLING CODE 3410-01-M